DEPARTMENT OF TRANSPORTATION

Federal Motor Carrier Safety Administration

[Docket No. FMCSA-2021-0098]

Parts and Accessories Necessary for Safe Operation; Application for an Exemption From EROAD, Inc.

AGENCY: Federal Motor Carrier Safety Administration (FMCSA), DOT.

ACTION: Notice of final disposition; grant of exemption.

SUMMARY: The FMCSA announces its decision to grant the application of EROAD, Inc. (EROAD) for a limited five-year exemption to allow its Dashcam device to be mounted lower in the windshield on commercial motor vehicles (CMV) than is currently permitted. The Agency has determined that lower placement of the EROAD Dashcam device would not have an adverse impact on safety and that adherence to the terms and conditions of the exemption would likely achieve a level of safety equivalent to, or greater than, the level of safety provided by the regulation.

DATES: This exemption is effective October 18, 2021 and ending October 13, 2026.

FOR FURTHER INFORMATION CONTACT: Mr. José R. Cestero, Vehicle and Roadside Operations Division, Office of Carrier, Driver, and Vehicle Safety, MC-PSV, (202) 366-5541, Federal Motor Carrier Safety Administration, 1200 New Jersey Avenue SE, Washington, DC, 20590-0001.

Docket: For access to the docket to read background documents or comments submitted to notice requesting public comments on the exemption application, go to www.regulations.gov at any time or visit Room W12-140 on the ground level of the West Building, 1200 New Jersey Avenue SE, Washington, DC, between 9 a.m. and 5 p.m., ET, Monday through Friday, except Federal holidays. To be sure someone is there to help you, please call (202) 366-9317 or (202) 366-9826 before visiting Docket Operations. The online Federal document management system is available 24 hours a day, 365 days a year. The docket number is listed at the beginning of this notice.

SUPPLEMENTARY INFORMATION:

Background

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period (up to 5 years) and explain the terms and conditions of the exemption. The exemption may be renewed (49 CFR 381.300(b)).

EROAD's Application for Exemption

EROAD applied for an exemption from 49 CFR 393.60(e)(1) to allow its Dashcam device to be mounted lower in the windshield than is currently permitted to optimize its functionality. A copy of the application is included in the docket referenced at the beginning of this notice.

In its application, EROAD states that the functionality of its Dashcam system includes the ability to provide performance or behavior management systems which continuously record video footage on a local storage device (SD Card) and send a video clip via the cellular network to the cloud when triggered by harsh driving events or upon manual driver request. EROAD notes that it piloted the devices' functionality and found that there was no obstruction to the driver's normal sightlines to the road ahead, highway signs and signals, or any mirrors.

The technology housing is approximately 76 mm (3 inches) tall by 122 mm (4.8 inches) wide, and will be mounted in the approximate center of the windshield with the bottom edge of the technology housing approximately 204 mm (approximately 8 inches) below the upper edge of the area swept by the windshield wipers. The device will be mounted outside the driver's normal sight lines to the road ahead, signs, signals and mirrors. This location will allow for optimal functionality of the safety features supported by the Dashcam system.

Without the proposed exemption, EROAD states that its clients (1) will not be able to install these devices in an optimal location to maximize their safety features, and (2) could be fined for violating current regulations. The exemption would apply to all CMVs equipped with EROAD's Dashcam system mounted on the windshield. EROAD believes that mounting the Dashcam device as described will maintain a level of safety that is equivalent to, or greater than, the level of safety achieved without the exemption.

Comments

FMCSA published a notice of the application in the Federal Register on July 26, 2021 and asked for public comment (86 FR 40135). The Agency received one comment, from the American Trucking Associations (ATA). The ATA supported the exemption, noting that EROAD's Dashcam system is designed to provide fleet managers with important safety information to document collisions and near-collisions, and to further train drivers.

FMCSA Decision

FMCSA has evaluated the EROAD exemption application. The Dashcam device housing is approximately 3 inches tall and is mounted near the top of the center of the windshield, with the bottom of the technology housing located approximately 8 inches below the top of the area swept by the windshield wipers. The technology housing needs to be mounted in this location for optimal functionality of the Dashcam system. The desired functionality and the relative size of the device precludes mounting it (1) higher in the windshield, and (2) within 4 inches from the top of the area swept by the windshield wipers to comply with section 393.60(e)(1)(ii)(A).

The Agency believes that allowing placement of the Dashcam device lower than currently permitted by Agency regulations will likely provide a level of safety that is equivalent to, or greater than, the level of safety achieved without the exemption because (1) based on the information available, there is no indication that the Dashcam device would obstruct drivers' views of the roadway, highway signs and signals, and surrounding traffic; (2) generally, trucks and buses have an elevated seating position that greatly improves the forward visual field of the driver and any impairment of available sight lines would be minimal; and (3) the mounting location where the bottom of the Dashcam device housing does not extend more than 8 inches below the upper edge of the area swept by the windshield wipers outside the driver's and passenger's normal sight lines to the road ahead, highway signs and signals, and all mirrors, will be reasonable and enforceable at roadside. In addition, the Agency believes the use of the Dashcam system by fleets is likely to improve the overall level of safety for the motoring public.

This action is consistent with the following previously issued Agency actions permitting the placement of similarly-sized devices on CMVs outside the driver's sight lines to the road and highway signs and signals: Bendix Commercial Vehicle Systems, LLC 86 FR 17877 (April 6, 2021), Netradyne, Inc. 85 FR 82575 (Dec 18, 2020), J.J. Keller & Associates, Inc. 85 FR 75106 (November 24, 2020), Samsara Networks, Inc. 85 FR 68409 (Oct. 28, 2020), Nauto Inc. 85 FR 64220 (Oct. 9, 2020), Lytx Inc. 85 FR 30121 (May 21, 2020), and Navistar Inc. 84 FR 64952 (Nov. 25, 2019). FMCSA is unaware of any evidence showing that installation of other vehicle safety technologies mounted on the interior of the windshield has resulted in any degradation in safety.

Terms and Conditions for the Exemption

The Agency hereby grants the exemption for a 5-year period, beginning October 18, 2021 and ending October 13, 2026. During the temporary exemption period, motor carriers are allowed to operate CMVs equipped with EROAD's Dashcam device in the approximate center of the top of the windshield where the bottom edge of the technology housing is approximately 8 inches below the upper edge of the area swept by the windshield wipers, outside of the driver's and passenger's normal sight lines to the road ahead, highway signs and signals, and all mirrors. The exemption is valid for 5 years unless rescinded earlier by FMCSA. The exemption will be rescinded if: (1) Motor carriers and/or commercial motor vehicles fail to comply with the terms and conditions of the exemption; (2) the exemption has resulted in a lower level of safety than was maintained before it was granted; or (3) continuation of the exemption would not be consistent with the goals and objectives of 49 U.S.C. 31136(e) and 31315(b).

Interested parties possessing information that would demonstrate that motor carriers operating CMVs equipped with EROAD's Dashcam system are not achieving the requisite statutory level of safety should immediately notify FMCSA. The Agency will evaluate any such information and, if safety is being compromised or if continuation of the exemption is not consistent with 49 U.S.C. 31136(e) and 31315(b), will take immediate steps to revoke the exemption.

Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

Meera Joshi,
Deputy Administrator.

[FR Doc. 2021-22617 Filed 10-15-21; 8:45 am]

BILLING CODE 4910-EX-P